DEPARTMENT OF HOMELAND SECURITY

Coast Guard

33 CFR Part 110

[Docket Number USCG-2020-0620]

Anchorage Ground; Approaches to New York, Ambrose, Long Beach, NY

AGENCY: Coast Guard, DHS.

ACTION: Notification of inquiry; request for comments.

SUMMARY: We are requesting public comments regarding the potential establishment of an anchorage ground in an area referred to by mariners as the “Ambrose anchorage,” which is an offshore area that has been used by ships awaiting inshore anchorages or berths. The area is located in the approaches to New York, approximately 3 nautical miles south of Long Beach, New York, and just north of the Nantucket to Ambrose Traffic Lane. The Coast Guard is considering formally establishing an anchorage ground at this location, possibly with regulations governing its use, if doing so will improve navigation safety and enhance safe and efficient flow of vessel traffic and commerce. We are seeking your comments on the benefits and impacts of establishing a regulated anchorage ground, and if so, what types of requirements we should consider for the Coast Guard oversight of the anchorage ground.

DATES: Your comments and related material must reach the Coast Guard on or before June 1, 2021. Commenters should be aware that the electronic Federal Docket Management System will not accept comments after midnight Eastern Daylight Time on the last day of the comment period. Although the Coast Guard prefers and highly encourages all comments and related material be submitted directly to the electronic docket, two virtual public meetings will be held via webinar and teleconference to provide an opportunity for oral comments regarding the possible establishment of an anchorage ground, often informally referred to as the “Ambrose anchorage” on Wednesday, April 21, 2021, beginning at 9 a.m. EST, and on Tuesday, April 27, 2021, beginning at 5 p.m. EST.

ADDRESSES: You may submit comments identified by docket number USCG-2020-0620 using the Federal portal at https://www.regulations.gov. See the “Public Participation and Request for Comments” portion of the SUPPLEMENTARY INFORMATION section for further instructions on submitting comments.

The virtual public meeting on Wednesday, April 21, 2021, beginning at 9 a.m. EST, will be held via webinar and teleconference.

The virtual public meeting on Tuesday, April 27, 2021, beginning at 5 p.m. EST, will be held via webinar and teleconference.

Access information for these virtual public meetings will be posted at https://homeport.uscg.mil/port-directory/new-york by Friday, April 9, 2021 under the News and Events section.

FOR FURTHER INFORMATION CONTACT: If you have questions about this notification of inquiry, call or email Mr. Craig Lapiejko, First Coast Guard District (dpw), U.S. Coast Guard; telephone (617) 223-8351, email craig.d.lapiejko@uscg.mil.

SUPPLEMENTARY INFORMATION:

I. Table of Abbreviations

CFR Code of Federal Regulations

DHS Department of Homeland Security

FR Federal Register

§ Section

MTS Marine Transportation System

U.S.C. United States Code

II. Background and Purpose

The Coast Guard is considering the establishment of an anchorage ground, informally referred to by mariners as the “Ambrose anchorage,” located in the approaches to New York, 3 nautical miles south of Long Beach, New York, and just north of the Nantucket to Ambrose Traffic Lane. Our authority to establish anchorage grounds is found in 33 U.S.C. 471. Under Title 33 Code of Federal Regulation (CFR) § 1.05-1, U.S. Coast Guard District Commanders are delegated the authority to establish anchorage grounds by the Commandant of the U.S. Coast Guard.

The Coast Guard plays a major role in the management of the nation's Marine Transportation System (MTS). The MTS is a complex system that includes ports, vessels, lock chambers, intermodal connections, marine terminals, and aids to navigation. The approaches to New York are a part of this system providing safe and predictable access to the critical ports of New York and New Jersey. The Coast Guard's role is to support access to navigable waterways for mariners, facilitate movement of commerce, and support environmental protection, all in a safe manner.

Global trends are bringing newer classes of large ships to the ports of New York and New Jersey. A recently completed harbor deepening project increased the Federal project depth to 50 feet in New York Harbor to accommodate the next generation of commercial ships. Ships going to or from the ports of New York and New Jersey anchor in unregulated areas located in the approaches to New York north of the Nantucket to Ambrose Traffic Lane. Vessels may be anchoring in this area for a broad range of purposes including waiting for available space at berths or inshore anchorage grounds, waiting on inspection, taking on stores, transferring of personnel, or other activities. Regulated anchorage grounds are available within the port of New York and New Jersey. Regulations establishing these anchorage grounds and governing their use are set out in 33 CFR 110.155. These anchorage ground regulations were last revised in January 2015 to establish and modify anchorage grounds to support port demands and enhance navigation safety. See Final Rule published in the Federal Register on January 15, 2015 (80 FR 2011).

In 2016, the Coast Guard requested comments on its draft report of the Atlantic Coast Port Access Route Study (ACPARS) (81 FR 13307, March 14, 2016) that analyzed the Atlantic Coast waters seaward of existing port approaches within the U.S. Exclusive Economic Zone, and announced the report as final in 2017 (82 FR 16510, April 5, 2017). This multiyear study began in 2011, included public participation, and identified key alongshore navigation routes customarily followed by ships engaged in commerce between U.S. ports from New York and New Jersey to the Florida Straits. See https://navcen.uscg.gov/?pageName=PARSReports.

In 2020, the Coast Guard published an advance notice of proposed rulemaking (ANPRM) titled Shipping Safety Fairways Along the Atlantic Coast (85 FR 37034, June 19, 2020) seeking comments regarding the possible establishment of a system of shipping safety fairways (“fairways”) along the Atlantic Coast of the United States identified as navigation safety corridors in the ACPARS.

Also in 2020, the Coast Guard published a notice of study announcing the Northern New York Bight Port Access Route Study (NNYBPARS) (85 FR 38907, June 29, 2020) to obtain comments regarding the adequacy of existing vessel routing measures and to determine whether additional vessel routing measures are necessary for port approaches to New York and New Jersey and other port approaches in the First Coast Guard District area of responsibility. During a 60-day comment period, five of the 24 comments submitted discussed or at least mentioned concerns about areas where vessels anchor within the study area. Some of these comments recommended the Coast Guard identify the customary areas that vessels anchor and federally designate them as anchorage grounds. One comment specifically described an area off Long Beach, New York believed to be used for anchoring commercial ships.

Within recent years, members of the New York Harbor Safety, Navigation and Operations Committee have raised concerns of how potential wind energy leases or the routing of associated transmission cables might conflict with traditional unregulated anchorage grounds thereby preventing their continued use.

Preliminary details describing the location of this contemplated anchorage ground are provided below. The anchorage ground dimensions would be approximately 5 nautical miles by 3 nautical miles and would encompass an area of approximately 15 square nautical miles. The anchorage ground would encompass all waters within the lines connecting the following points using coordinates based on North American Datum of 1983 (NAD83).

40 28′ 24.430″ N, 073 39′ 31.644″ W,

40 29′ 19.002″ N, 073 33′ 16.321″ W,

40 31′ 06.599″ N, 073 36′ 30.493″ W,

40 31′ 27.763″ N, 073 41′ 42.667″ W,

40 29′ 14.949″ N, 073 40′ 29.677″ W,

40 29′ 14.896″ N, 073 39′ 31.361″ W, thence to point of origin.

Additional illustrations showing the location of this considered anchorage ground are available in the docket.

III. Information Requested

Public participation will help the Coast Guard decide whether to formally establish the anchorage ground, often informally referred to as the “Ambrose anchorage,” located in the approaches to New York, 3 nautical miles south of Long Beach, New York, and just north of the Nantucket to Ambrose Traffic Lane. The Coast Guard seeks public comments, positive or negative, regarding the benefits and impacts a regulated anchorage ground may have on navigational safety, continued growth of the Port of New York and New Jersey, offshore renewable energy and associated economic activity, and other activities in this offshore area. In the event the Coast Guard were to proceed with an anchorage ground in this location, it would follow normal notice and comment rulemaking processes in accordance with the Administrative Procedure Act, 5 U.S.C. 551 et seq.

We are also specifically seeking comments on:

1. Any alterations to the specific location, size or boundary lines of how we describe the considered Ambrose anchorage area.

2. Should we establish a Federal anchorage ground, and if so, what regulations should we consider to manage it. This could include but is not limited to regulations governing capacity, size or type of vessel, usage, or duration vessels may remain at anchor.

3. Additional information or concerns regarding the two inactive submarine communication cables that lay within the contemplated anchorage ground and how they would affect the ability to anchor safely.

4. Additional information, concerns, or possible solutions regarding the conflict this considered anchorage ground will have with the Long Island Fairway proposed in the ANPRM titled Shipping Safety Fairways Along the Atlantic Coast (85 FR 37034, June 19, 2020).

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and submissions in response to this document, see DHS's eRulemaking System of Records notice (85 FR 14226, March 11, 2020).

Documents mentioned in this notice of inquiry as being available in the docket, and all public comments, will be in our online docket at https://www.regulations.gov and can be viewed by following that website's instructions.

We plan to hold two virtual public meetings to receive oral comments on this notice. Again, as stated earlier, the Coast Guard prefers and highly encourages all comments and related material be submitted directly to the online public docket, but two virtual public meetings will be held via webinar and teleconference to provide an opportunity for oral comments regarding the possible establishment of an anchorage ground, often informally referred to as the “Ambrose anchorage.” If you want to provide a written version of your oral comments made at the virtual public meeting, you may submit them directly to Mr. Craig Lapiejko. These comments will be added to our online public docket. We recommend that you include your name and a mailing address, an email address, or a telephone number in the body of your document so that we can contact you if we have questions regarding your submission. Attendance at the virtual public meeting is not required. We will provide a written summary of the oral comments received and will place that summary in the online public docket.

The virtual public meeting on Wednesday, April 21, 2021, beginning at 9 a.m. EST, will be held via webinar and teleconference.

The virtual public meeting on Tuesday, April 27, 2021, beginning at 5 p.m. EST, will be held via webinar and teleconference.

Access information for these virtual public meetings will be posted at https://homeport.uscg.mil/port-directory/new-york by Friday, April 9, 2021 under the News and Events section.

To view the comments and documents mentioned in this preamble as being available in the online public docket, go to http://www.regulations.gov, click on the “read comments” box, which will then become highlighted in blue. In the “Keyword” box insert “USCG-2020-0620” and click “Search.” Click the “Open Docket Folder” in the “Actions” column.

V. Future Actions

It is possible that this inquiry may conclude that no formal anchorage ground is necessary. It is also possible that this inquiry may conclude that a formal anchorage ground is needed to improve navigation safety and provide for the overall safe and efficient flow of vessel traffic and commerce which will lead to future rulemakings. If so, any substantive rulemaking effort associated with this project will follow Coast Guard public notice and comment rulemaking procedures to allow for public participation in the process and would require us by law, National Environmental Policy Act (NEPA), to undertake an assessment of the environmental effects of our proposed actions.

Dated: March 22, 2021.
T.G. Allan Jr.,
Rear Admiral, U.S. Coast Guard, Commander, First Coast Guard District.

[FR Doc. 2021-06521 Filed 3-31-21; 8:45 am]

BILLING CODE 9110-04-P